DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of two individuals whose property and interests in property have been blocked pursuant to the Foreign Narcotics Kingpin Designation Act (“Kingpin Act”) (21 U.S.C. 1901-1908, 8 U.S.C. 1182).

DATES: The designation by the Director of OFAC of the two individuals identified in this notice pursuant to section 805(b)(2) and (3) of the Kingpin Act is effective on May 15, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 15, 2012, the Director of OFAC designated the following two individuals whose property and interests in property are blocked pursuant to section 805(b)(2) and (3) of the Kingpin Act.

The additional designees are as follows:

1. MEMON, Ibrahim Abdul Razaaq (a.k.a. MEMON, Ibrahim Abdul Razak; a.k.a. “MUSHTAQ ”; a.k.a. “MUSTAQ”; a.k.a. “SIKANDER”; a.k.a. “TIGER MEMON”), Bldg. No. 21 Room No. 1069, Fisherman Colony Mahim, Mumbai, India; House No. C-201, Extension-A, Karachi Development Scheme, Karachi, Pakistan; DOB 24 Nov 1960; POB Mumbai (Bombay), India; nationality India; Passport AA762402 (Pakistan); alt. Passport L152818 (India) (individual) [SDNTK]

2. SHAKEEL, Chhota (a.k.a. AHMED, Sheikh Shakeel; a.k.a. MOHIDDIN, Shaikh Shakil Babu; a.k.a. SHAKEEL, Chota; a.k.a. SHAKIL, Chhota), R. No. 11, 1st Floor Ruksans Manzil, 78 Temkar Street, Nagpada, Mumbai, India; DOB 31 Dec 1955; alt. DOB 1960; POB Mumbai (Bombay), India; nationality India (individual) [SDNTK]

Dated: May 15, 2012.
John H. Battle,
Acting Director, Office of Foreign Assets Control.

[FR Doc. 2012-12143 Filed 5-17-12; 8:45 am]

BILLING CODE 4810-AL-P